DEPARTMENT OF HOMELAND SECURITY

Federal Emergency Management Agency

[Docket ID FEMA-2014-0002; Internal Agency Docket No. FEMA-B-1412]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 11, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1412, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Beaver County, Pennsylvania (All Jurisdictions)
Maps Available for Inspection Online at: http://www.fema.gov/preliminaryfloodhazarddata
Borough of Ambridge | Borough Hall, 600 11th Street, Ambridge, PA 15003.
Borough of Baden | Borough Hall, 149 State Street, Baden, PA 15005.
Borough of Beaver | Borough Municipal Building, 469 Third Street, Beaver, PA 15009.
Borough of Big Beaver | Big Beaver Borough Municipal Building, 114 Forest Drive, Darlington, PA 16115.
Borough of Bridgewater | Bridgewater Borough Municipal Building, 199 Boundary Lane, Beaver, PA 15009.
Borough of Conway | Borough Hall, 1208 Third Avenue, Conway, PA 15027.
Borough of Darlington | Borough Hall, 604 Morris Street, Darlington, PA 16115.
Borough of East Rochester | Borough Hall, 760 Spruce Avenue, East Rochester, PA 15074.
Borough of Eastvale | Eastvale Borough Office, 510 Second Avenue, Eastvale, Beaver Falls, PA 15010.
Borough of Economy | Economy Borough Municipal Building, 2856 Conway Wallrose Road, Baden, PA 15005.
Borough of Fallston | Borough Secretary's Office, 158 Beaver Street, Fallston, PA 15066.
Borough of Freedom | Borough Municipal Complex, 901 3rd Avenue, Freedom, PA 15042.
Borough of Georgetown | Office of the Borough Secretary, 323 3rd Street, Georgetown, PA 15043.
Borough of Glasgow | Glasgow Borough Hall, 174 Route 68, Midland, PA 15059.
Borough of Homewood | Homewood Borough Office, 102 Second Avenue, Beaver Falls, PA 15010.
Borough of Hookstown | Borough Building, 262 Main Street, Hookstown, PA 15050.
Borough of Industry | Borough Office, 1620B Midland Beaver Road, Industry, PA 15052.
Borough of Koppel | Borough Office, 3437 3rd Avenue, Koppel, PA 16136.
Borough of Midland | Borough Office, 936 Midland Avenue, Midland, PA 15059.
Borough of Monaca | Borough Office, 928 Pennsylvania Avenue, Monaca, PA 15061.
Borough of New Brighton | Borough Office, 610 3rd Avenue, New Brighton, PA 15066.
Borough of New Galilee | Borough Community Hall, 201 Washington Avenue, New Galilee, PA 16141.
Borough of Ohioville | Ohioville Borough Annex Building, 6268 Tuscarawas Road, Industry, PA 15052.
Borough of Patterson Heights | Patterson Heights Borough Hall, 600 7th Avenue, Beaver Falls, PA 15010.
Borough of Rochester | Borough Municipal Building, 350 Adams Street, Rochester, PA 15074.
Borough of Shippingport | Municipal Building, 164 State Route 3016, Shippingport, PA 15077.
Borough of South Heights | Borough Building, 4069 Jordan Street, South Heights, PA 15081.
Borough of West Mayfield | West Mayfield Borough Building, 4609 West 8th Avenue, Beaver Falls, PA 15010.
City of Aliquippa | City Hall 581, Franklin Avenue, Aliquippa, PA 15001.
City of Beaver Falls | City Hall, 715 15th Street, Beaver Falls, PA 15010.
Township of Brighton | Brighton Township Municipal Building, 1300 Brighton Road, Beaver, PA 15009.
Township of Center | Center Township Municipal Building, 224 Center Grange Road, Aliquippa, PA 15001.
Township of Chippewa | Chippewa Township Municipal Building, 2811 Darlington Road, Beaver Falls, PA 15010.
Township of Darlington | Township Municipal Building, 3590 Darlington Road, Darlington, PA 16115.
Township of Daugherty | Daugherty Township Municipal Building, 2182 Mercer Road, New Brighton, PA 15066.
Township of Franklin | Franklin Township Hall, 897 State Route 288, Fombell, PA 16123.
Township of Greene | Greene Township Hall, 262 Pittsburgh Grade Road, Hookstown, PA 15050.
Township of Hanover | Hanover Township Hall, 2731 State Route 18, Hookstown, PA 15050.
Township of Harmony | Harmony Township Municipal Building, 2501 Woodland Road, Ambridge, PA 15003.
Township of Hopewell | Hopewell Township Municipal Building, 1700 Clark Boulevard, Aliquippa, PA 15001.
Township of Independence | Independence Township Municipal Building, 104 School Road, Aliquippa, PA 15001.
Township of Marion | Marion Township Municipal Building, 485 Hartzell School Road, Fombell, PA 16123.
Township of New Sewickley | New Sewickley Township Municipal Building, 233 Miller Road, Rochester, PA 15074.
Township of North Sewickley | North Sewickley Township Municipal Building, 893 Mercer Road Beaver, Falls, PA 15010.
Township of Patterson | Patterson Township Municipal Complex, 1600 19th Avenue, Beaver Falls, PA 15010.
Township of Potter | Potter Township Municipal Building, 206 Mowry Road, Monaca, PA 15061.
Township of Pulaski | Pulaski Township Municipal Building, 3401 Sunflower Road, New Brighton, PA 15066.
Township of Raccoon | Raccoon Township Municipal Building, 1234 State Route 18, Aliquippa, PA 15001.
Township of Rochester | Municipal Building 1013, Elm Street, Rochester, PA 15074.
Township of South Beaver | South Beaver Township Fire Hall, 773 State Route 168, Darlington, PA 16115.
Township of Vanport | Municipal Building, 477 State Avenue, Vanport, PA 15009.
Township of White | White Township Building, 2511 13th Avenue (Clayton Road), Beaver Falls, PA 15010.
Butler County, Pennsylvania (All Jurisdictions)
Maps Available for Inspection Online at: http://www.fema.gov/preliminaryfloodhazarddata
Borough of Bruin | Borough Hall, 114 Water Street, Bruin, PA 16022.
Borough of Callery | Borough Hall, 199 Railroad Street, Callery, PA 16024.
Borough of Chicora | Borough Office, 209 Central Avenue, Chicora, PA 16025.
Borough of Connoquenessing | Borough Office, 228 Constitution Avenue, Connoquenessing, PA 16027.
Borough of East Butler | Borough Municipal Building, 1105 Randolph Avenue, East Butler, PA 16029.
Borough of Evans City | Borough Building, 204-B South Jackson Street, Evans City, PA 16033.
Borough of Harmony | Borough Building, 217 Mercer Street, Harmony, PA 16037.
Borough of Harrisville | Borough Offices, 117 South Main Street, Harrisville, PA 16038.
Borough of Karns City | Borough Office, 116 Main Street, Karns City, PA 16041.
Borough of Mars | Borough Office, 598 Spring Street, Mars, PA 16046.
Borough of Petrolia | Borough Secretary's Office, 145 Main Street, Petrolia, PA 16050.
Borough of Prospect | Borough Office 159 Monroe Street, Prospect, PA 16052.
Borough of Seven Fields | Borough Municipal Building, 2200 Garden Drive, Suite 100, Seven Fields, PA 16046.
Borough of Valencia | Borough Building, 61 Almira Street, Valencia, PA 16059.
Borough of West Liberty | West Liberty Borough Office, 128 Slippery Rock Road, Slippery Rock, PA 16057.
Borough of Zelienople | Borough Municipal Building, 111 West New Castle Street, Zelienople, PA 16063.
City of Butler | City Building, 140 West North Street, Butler, PA 16001.
Township of Adams | Adams Township Municipal Building, 690 Valencia Road, Mars, PA 16046.
Township of Allegheny | Allegheny Township Municipal Building, 373 Foxburg Road, Parker, PA 16049.
Township of Brady | Brady Township Building, 141 West Liberty Road, Slippery Rock, PA 16057.
Township of Buffalo | Buffalo Township Municipal Office, 109 Bear Creek Road, Sarver, PA 16055.
Township of Butler | Township Municipal Building, 290 South Duffy Road, Butler, PA 16001.
Township of Center | Center Township Municipal Building, 419 Sunset Drive, Butler, PA 16001.
Township of Cherry | Cherry Township Secretary's Office, 1573 West Sunbury Road, #8, West Sunbury, PA 16061.
Township of Clay | Clay Township Municipal Building, 1115 Euclid School Road, Butler, PA 16001.
Township of Clearfield | Clearfield Township Municipal Office, 103 McGrady Road, Fenelton, PA 16034.
Township of Clinton | Clinton Township Municipal Building, 711 Saxonburg Boulevard, Saxonburg, PA 16056.
Township of Concord | Concord Township Municipal Building, 700 Hooker Road, West Sunbury, PA 16061.
Township of Connoquenessing | Connoquenessing Township Office, 102 Township Drive, Renfrew, PA 16053.
Township of Cranberry | Township Municipal Center 2525 Rochester Road, Suite 400, Cranberry Township, PA 16066.
Township of Donegal | Donegal Township Office, 400 Chicora-Fenelton Road, Chicora, PA 16025.
Township of Fairview | Fairview Township Secretary's Office, 1571 Hooker Road, Karns City, PA 16041.
Township of Forward | Forward Township Municipal Building, 207 Ash Stop Road, Evans City, PA 16033.
Township of Franklin | Franklin Township Municipal Buildinig, 191 Election House Road, Prospect, PA 16052.
Township of Jackson | Jackson Township Office, 140 Magill Road, Zelienople, PA 16063.
Township of Jefferson | Jefferson Township Municipal Building, 157 Great Belt Road, Butler, PA 16002.
Township of Lancaster | Lancaster Township Office, 113 Kings Alley, Harmony, PA 16037.
Township of Marion | Marion Township Office, 2275 West Sunbury Road, Suite B, Boyers, PA 16020.
Township of Mercer | Mercer Township Secretary's Office, 1047 Harmony Road, Harrisville, PA 16038.
Township of Middlesex | Middlesex Township Municipal Building, 133 Browns Hill Road, Valencia, PA 16059.
Township of Muddy Creek | Muddy Creek Township Building, 911 Perry Highway, Harmony, PA 16037.
Township of Oakland | Oakland Township Municipal Building, 565 Chicora Road, Butler, PA 16001.
Township of Parker | Parker Township Municipal Building, 107 Snake Road, Bruin, PA 16022.
Township of Penn | Penn Township Municipal Building, 157 East Airport Road, Butler, PA 16002.
Township of Slippery Rock | Township Office, 155 Branchton Road, Slippery Rock, PA 16057.
Township of Summit | Summit Township Office, 502 Bonniebrook Road, Butler, PA 16002.
Township of Venango | Venango Township Building, 332 Eau Claire Road, Boyers, PA 16020.
Township of Washington | Washington Township Building, 241 Old Brick Road, Hilliards, PA 16040.
Township of Winfield | Winfield Township Office, 194 Brose Road, Cabot, PA 16023.
Township of Worth | Worth Township Building, 815 West Park Road, Slippery Rock, PA 16057.
Brown County, Texas, and Incorporated Areas
Maps Available for Inspection Online at: http://www.fema.gov/preliminaryfloodhazarddata
City of Bangs | City Hall, 109 South 1st Street, Bangs, TX 76823.
City of Blanket | City Hall, 719 Main Street, Blanket, TX 76432.
City of Brownwood | Engineering Office, 501 Center Avenue, Brownwood, TX 76804.
City of Early | City Hall, 960 Early Boulevard, Early, TX 76802.
Unincorporated Areas of Brown County | Brown County Building Inspector's Office, 200 South Broadway Street, Suite 332, Brownwood, TX 76801.
Augusta County, Virginia, and Incorporated Areas
Maps Available for Inspection Online at: http://www.fema.gov/preliminaryfloodhazarddata
Unincorporated Areas of Augusta County | Augusta County Community Development Office, 18 Government Center Lane, Verona, VA 24482.
Charles City County, Virginia (All Jurisdictions)
Maps Available for Inspection Online at: http://www.fema.gov/preliminaryfloodhazarddata
Unincorporated Areas of Charles City County | Charles City County Department of Public Works, 10900 Courthouse Road, Charles City, VA 23030.
New Kent County, Virginia (All Jurisdictions)
Maps Available for Inspection Online at: http://www.fema.gov/preliminaryfloodhazarddata
Unincorporated Areas of New Kent County | New Kent County Department of Planning and Community Development, 12007 Courthouse Circle, New Kent, VA 23124

(Catalog of Federal Domestic Assistance No. 97.022, “Flood Insurance.”)

Dated: April 22, 2014.
Roy E. Wright,
Deputy Associate Administrator for Mitigation, Department of Homeland Security, Federal Emergency Management Agency.

[FR Doc. 2014-11002 Filed 5-12-14; 8:45 am]

BILLING CODE 9110-12-P